DEPARTMENT OF THE INTERIOR

National Park Service

Notice of Meeting, National Landmarks Advisory Commission

SUMMARY: Notice is hereby given in accordance with the Federal Advisory Commission Act that a meeting of the National Landmarks Committee of the National Park System Advisory Board will be held at 9:00 a.m. on the following date and at the following location.

DATES: April 10, 2000.

LOCATION: Main Hearing Room (Room 100); First Floor; 800 North Capitol Street, NW; Washington, D.C.

FOR FURTHER INFORMATION CONTACT: Patricia Henry, National Register, History, and Education (2280); National Park Service, 1849 C Street, NW; Room NC-400; Washington, DC 20013-7127. Telephone (202) 343-81635.

SUPPLEMENTARY INFORMATION: The purpose of the meeting of the National Landmarks Committee of the National Park System Advisory Board is to evaluate nominations of historic properties in order to advise the full National Park System Advisory Board, meeting on April 16, 2000, of the qualifications of properties being proposed for National Historic Landmark (NHL) designation, and to recommend to the National Park System Advisory Board those properties that the Landmarks Committee finds meet the criteria for designation as National Historic Landmarks. The members of the National Landmarks Committee are:

Mr. Parker Westbrook, Co-Chair

Dr. Allyson Brooks

Dr. Ian W. Brown

Mr. S. Allen Chambers, Jr.

Dr. Elizabeth Clark-Lewis

Mr. Jerry L. Rogers

Dr. Richard Guy Wilson

The meeting will include presentations and discussions on the national historic significance and the historic integrity of a number of properties being nominated for National Historic Landmark designation. The meeting will be open to the public. However, facilities and space for accommodating members of the public are limited. Any member of the public may file for consideration by the committee written comments concerning nominations and matters to be discussed pursuant to 36 CFR Part 65.

Comments should be submitted to Carol D. Shull, Chief, National Historic Landmarks Survey and Keeper of the National Register of Historic Places; National Register, History, and Education (2280); National Park Service; 1849 C Street, NW; Room NC-400; Washington, DC 20240-7127.

The committee will consider the following nominations:

CONNECTICUT

Portland Brownstone Quarries

IOWA

Old State Quarry

MAINE

Parker Cleaveland House

MASSACHUSETTS

Gropius House

OREGON

Columbia River Highway

PENNSYLVANIA

I.N. Hagan House

VERMONT

Rockingham Meetinghouse

The committee will consider the following boundary expansion:

MONTANA

Great Northern Railway Buildings

The following properties will be on the agenda if waivers to the 60-day notification period are received from the owners and the highest elected local official.

INDIANA

First Baptist Church

First Christian Church

Irwin Union Bank and Trust

Mabel McDowell Elementary School

Miller House

North Christian Church

KENTUCKY

Labrot & Graham (Old Oscar Pepper) Distillery

NEW YORK

Sagamore Lodge

Santanoni Preserve

RHODE ISLAND

John N.A. Griswold House

VERMONT

Socialist Labor Party Hall

Dated: March 20, 2000.
Beth Boland,
Acting Chief, National Historic Landmarks Survey and Keeper of the National Register of Historic Places; National Park Service, Washington, DC.

[FR Doc. 00-7572 Filed 3-27-00; 8:45 am]

BILLING CODE 4310-70-P